DEPARTMENT OF HOMELAND SECURITY

Coast Guard

33 CFR Part 117

[CGD09-05-081]

RIN 1625-AA09

Drawbridge Operation Regulations; Fox River, Green Bay, WI and DePere, WI

AGENCY: Coast Guard, DHS.

ACTION: Notice of proposed rulemaking.

SUMMARY: The Coast Guard proposes to revise the operating regulations for the Main Street, Walnut Street, Mason Street (Tilleman Memorial), and George Street highway drawbridges to establish permanent winter operating hours, and to establish operating regulations for two Canadian National Railway drawbridges. All six of these drawbridges are located over the Fox River at Green Bay, WI and DePere, WI. The proposed rule is expected to reflect the need for bridge openings during winter months and still provide for the reasonable needs of navigation. The proposed establishment of regulations for the Canadian National drawbridges would provide consistency for operating regulations for all drawbridges at Green Bay and DePere.

DATES: Comments and related material must reach the Coast Guard on or before September 26, 2005.

ADDRESSES: You may mail comments and related material to Commander (obr), Ninth Coast Guard District, 1240 E. 9th Street, Room 2025, Cleveland, Ohio, 44199-2060. The Ninth Coast Guard District maintains the public docket for this rulemaking. Comments and material received from the public, as well as documents indicated in this preamble as being available in the docket, will become part of this docket and will be available for inspection or copying at Commander (obr), Ninth Coast Guard District between 7 a.m. and 3 p.m., Monday through Friday, except Federal holidays.

FOR FURTHER INFORMATION CONTACT: Scot M. Striffler, Bridge Management Specialist, Ninth Coast Guard District, at (216) 902-6087.

SUPPLEMENTARY INFORMATION:

Request for Comments

We encourage you to participate in this rulemaking by submitting comments and related material. If you do so, please include your name and address, identify the docket number for this rulemaking (CGD09-05-081), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Commander (obr), Ninth Coast Guard District, at the address under ADDRESSES explaining why one would be beneficial. If we determine that one would aid this rulemaking, we will hold one at a time and place announced by a later notice in the Federal Register.

Background and Purpose

The four highway drawbridges over the Fox River between miles 1.58 and 7.27 are bascule bridges operated by both the Wisconsin Department of Transportation (W-DOT) and the City of Green Bay, WI. The Main Street and Mason Street Bridges are operated by W-DOT, and the Walnut Street and George Street Bridges are operated by the City of Green Bay. The Main Street, Mason Street, and Walnut Street Bridges at Green Bay are currently required to operate year-round and open on signal, except between the hours of 7 a.m. to 8 a.m., 12 noon to 1 p.m., and 4 p.m. to 5 p.m., Monday through Saturday, except for Federal holidays. This schedule does not apply to public vessels of the United States, tugs, fireboats, and vessels with a cargo capacity of 300 short tons or over engaged in commercial transportation, which are passed at any time.

The George Street Bridge at DePere opens on signal during the navigation season, except from 6 p.m. to 8 a.m. During those hours, the draw shall open on signal if at least two hours notice is given.

The railroad drawbridges operated by Canadian National Railway at miles 1.03 and 3.31 over the Fox River are swing bridges, currently have no permanent operating regulations, and open on signal for vessels year-round, 24 hours per day.

The Ninth Coast Guard District has granted a yearly winter operating schedule for both the highway and railroad drawbridges under the provisions of 33 CFR 117.45 from December 15 to April 1 each year since approximately 1992.

W-DOT requested that the Coast Guard implement a permanent winter operating schedule for the Walnut Street and Mason Street drawbridges between December 1 and April 1 each year. The Coast Guard requested that drawbridge opening logs be provided for these two bridges for the month of December since the yearly authorization granted by the Coast Guard started on December 15 instead of the requested December 1 start date. Vessels traveling as far as the Mason Street Bridge must pass through one of the railroad bridges and all other highway bridges in Green Bay. Consequently, the Coast Guard evaluated the provided logs as representative of drawbridge requirements for all drawbridges in Green Bay.

The bridge opening logs revealed the following number of drawbridge openings during the month of December in 2002, 2003, and 2004:

Year | Number of openings
Walnut Street Bridge (between December 1 and December 15)
2002 | 60
2003 | 11
2004 | 15
Walnut Street Bridge (between December 16 and December 31)
2002 | 27
2003 | 18
2004 | 13
Mason Street Bridge (between December 1 and December 15)
2002 | 50
2003 | 4
2004 | 10
Mason Street Bridge (between December 16 and December 31)
2002 | 16
2003 | 15
2004 | 8

The Coast Guard also contacted the City of Green Bay about including the Main Street drawbridge in this proposed change and received no objection to the proposed schedule. Local Coast Guard units and representatives of American shipping companies were also consulted regarding the proposed schedule and provided no objections. The Canadian National Railway drawbridges would operate under the same schedules as the highway drawbridges, as requested by the railroad company in the past.

Discussion of Proposed Rule

The Coast Guard proposes to revise the operating regulations for the Main Street, Walnut Street, Mason Street, and George Street highway drawbridges currently listed in 33 CFR 117.1087, and establish permanent operating regulations for the two Canadian National Railway drawbridges over the Fox River, mile 1.03 and mile 3.31, both at Green Bay.

This proposed schedule would not significantly alter drawbridge operations in the Green Bay area during the non-winter navigation season. The proposed rule would permanently establish winter operating schedules for all drawbridges on the Fox River up to and including the George Street Bridge at mile 7.27, instead of the yearly authorization currently granted by the Coast Guard under 33 CFR 117.45. Between December 1 and March 31 of each year, all six of these drawbridges would open if at least 12 hours advance notice is provided.

The Coast Guard believes that this proposed schedule reflects the reasonable needs of navigation for commercial vessel traffic requiring drawbridge openings during the winter navigation season, provides consistent operating schedules for all drawbridges owned and operated by different owners (highway and rail), and reduces paperwork. The winter operating schedules have been in place since approximately 1992 with no known objections or conflicts.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary.

The Coast Guard expects minimal public impact from the proposed schedule. The operating hours for recreational vessels does not effectively change since the substantive changes occur during winter months when recreational vessel activity has ceased. Commercial vessels have been required to provide 12-hours advance notice prior to passing drawbridges since approximately 1992 with no reported problems.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

The proposed schedule for all highway and railroad drawbridges is not expected to significantly affect large commercial vessels during the winter navigation season. Impacts to a substantial number of small entities are not expected since these entities mostly operate during non-winter months.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact Scot M. Striffler, Bridge Management Specialist, Ninth Coast Guard District, at (216) 902-6087. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this proposed rule is categorically excluded, under figure 2-1, paragraph (32)(e) of the Instruction, from further environmental documentation.

List of Subjects in 33 CFR Part 117

Bridges.

Regulations

For the reasons discussed in the preamble, the Coast Guard proposes to amend 33 CFR part 117 as follows:

PART 117—DRAWBRIDGE OPERATION REGULATIONS

1. The authority citation for part 117 continues to read as follows:

Authority: 33 U.S.C. 499; Department of Homeland Security Delegation No. 0170.1; 33 CFR 1.05-1(g); section 117.255 also issued under the authority of Pub. L. 102-587, 106 Stat. 5039.

2. Section 117.1087 is amended by revising paragraphs (a) and (b) to read as follows:

§ 117.1087 Fox River.

(a) The draws of the Canadian National Bridge, mile 1.03, Main Street Bridge, mile 1.58, Walnut Street Bridge, mile 1.81, Mason Street (Tilleman Memorial) Bridge, mile 2.27, and Canadian National Bridge, mile 3.31, all at Green Bay, shall open as follows:

(1) From April 1 through November 30, the draws shall open on signal for recreational vessels; except the draws need not open from 7 a.m. to 8 a.m., 12 noon to 1 p.m., and 4 p.m. to 5 p.m., Monday through Saturday except Federal holidays. Public vessels, tugs, and commercial vessels with a cargo capacity of 300 short tons or greater shall be passed at all times.

(2) From December 1 through March 31, the draws shall open on signal if notice is given at least 12 hours in advance of a vessel's time of intended passage.

(3) The opening signal for the Main Street Bridge is two short blasts followed by one prolonged blast, for the Walnut Street Bridge one prolonged blast followed by two short blasts, and for the Mason Street Bridge one prolonged blast, followed by one short blast, followed by one prolonged blast.

(b) The draw of the George Street Bridge, mile 7.27 at DePere, shall open on signal from April 1 to November 30; except that, from 6 p.m. to 8 a.m., the draw shall open on signal if notice is given at least 2 hours in advance of a vessel's time of intended passage. From December 1 to March 31, the draw shall open on signal if notice is given at least 12 hours in advance of a vessel's time of intended passage.

* * * * *

Dated: July 25, 2005.
R.J. Papp, Jr.,
Rear Admiral, U.S. Coast Guard, Commander, Ninth Coast Guard District.

[FR Doc. 05-15779 Filed 8-9-05; 8:45 am]

BILLING CODE 4910-15-P